DEPARTMENT OF COMMERCE.

International Trade Administration

A-570-893

Certain Frozen Warmwater Shrimp from the People's Republic of China: Initiation of New Shipper Review

AGENCY: Import Administration, International Trade Administration, Department of Commerce.

EFFECTIVE DATE: September 29, 2006.

SUMMARY: The Department of Commerce (“Department”) has determined that a request to conduct a new shipper review of the antidumping duty order on frozen warmwater shrimp from the People's Republic of China (“PRC”), received on August 31, 2006, meets the statutory and regulatory requirements for initiation. Therefore, in accordance with 19 CFR 351.214(d), we are initiating a new shipper review for Maoming Changxing Foods Co., Ltd. (“MCFC”). The period of review (“POR”) for this new shipper review is February 1, 2006, through July 31, 2006.¹

FOR FURTHER INFORMATION CONTACT: Michael Quigley or Christopher Riker, AD/CVD Operations, Import Administration, Office 9, International Trade Administration, U.S. Department of Commerce, 14th Street and Constitution Avenue, NW., Washington, DC 20230; telephone: (202) 482-4047 or (202) 482-3441, respectively.

¹ The antidumping duty order for certain frozen warmwater shrimp from PRC was published on February 1, 2005. See Notice of Amended Final Determination of Sales at Less Than Fair Value and Antidumping Duty Order: Certain Frozen Warmwater Shrimp From the People's Republic of China, 70 FR 5149 (February 1, 2005) (“PRC Shrimp Order”). Therefore, a semiannual request for a new shipper review based on the anniversary month, February, was due to the Department by the final day of August 2006. See 19 CFR 351.214(d)(1).

Background

The notice announcing the antidumping duty order on certain frozen warmwater shrimp from the PRC was published on February 1, 2005. See PRC Shrimp Order. The Department received a timely request from MCFC on August 31, 2006, pursuant to section 751(a)(2)(B) of the Tariff Act of 1930, as amended (“the Act”), and in accordance with 19 CFR 351.214(c), for a new shipper review of the antidumping duty order on frozen warmwater shrimp from the PRC.

Pursuant to section 751(a)(2)(B)(i)(I) of the Act and 19 CFR 351.214(b)(2)(i), MCFC certified that it did not export frozen warmwater shrimp to the United States during the period of investigation (“POI”). In addition, pursuant to section 751(a)(2)(B)(i)(II) of the Act and 19 CFR 351.214(b)(2)(iii)(A), MCFC certified that, since the initiation of the investigation, it has never been affiliated with any PRC exporter or producer who exported frozen warmwater shrimp to the United States during the POI, including those not individually examined during the investigation. As required by 19 CFR 351.214(b)(2)(iii)(B), MCFC also certified that its export activities were not controlled by the central government of the PRC.

In addition to the certifications described above, pursuant to 19 CFR 351.214(b)(2)(iv), MCFC submitted documentation establishing the following: (1) the date on which it first shipped frozen warmwater shrimp for export to the United States; (2) the volume of its first shipment (and certification of no subsequent shipments); and (3) the date of its first sale to an unaffiliated customer in the United States.

The Department conducted customs database queries to confirm that MCFC's shipment of subject merchandise during the POR had entered the United States for consumption and had been suspended for antidumping duties, and that there had been no subsequent shipments.

Initiation of New Shipper Reviews

Pursuant to section 751(a)(2)(B) of the Act, and 19 CFR 351.214, we find that the request made by MCFC, a producer and exporter, meets the threshold requirements for the initiation of a new shipper review for the shipment of certain frozen warmwater shrimp from the PRC. See Memorandum to the File through James C. Doyle, Director, AD/CVD Operations, Office 9, from Christopher D. Riker, Program Manager, AD/CVD Operations, Office 9: New Shipper Initiation Checklist (September 22, 2006).

Pursuant to 19 CFR 351.214(g)(1)(i)(B), if the new shipper review is initiated in the month immediately following the semiannual anniversary month, the period of review will be the six-month period immediately preceding the semiannual anniversary month. Therefore, the POR for this new shipper review will be February 1, 2006, through July 31, 2006. We intend to issue the preliminary results of this review no later than 180 days from the date of initiation, and the final results of this review no later than 90 days from the date on which the preliminary results are issued. See section 751(a)(2)(B)(iv) of the Act; 19 CFR 351.214(i)(1).

Interested parties needing access to proprietary information in this new shipper review should submit applications for disclosure under administrative protective orders in accordance with 19 CFR 351.305 and 351.306.

This initiation and notice are in accordance with section 751(a) of the Act and 19 CFR 351.214.

Dated: September 22, 2006.
Stephen J. Claeys,
Deputy Assistant Secretary for Import Administration

[FR Doc. E6-16070 Filed 9-29-06; 8:45 am]

BILLING CODE 3510-DR-S